SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1, 2012 through June 30, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Cabot Oil & Gas Corporation, Pad ID: BusikJ P1, ABR-201206001, Dimock Township, Susquehanna County, Pa.; Consumptive Use of Up to 3.575 mgd; Approval Date: June 11, 2012.

2. Cabot Oil & Gas Corporation, Pad ID: WaldenbergerP P1, ABR-201206002, Dimock Township, Susquehanna County, Pa.; Consumptive Use of Up to 3.575 mgd; Approval Date: June 11, 2012.

3. Southwestern Energy Production Company, Pad ID: Humbert Pad (RU-8), ABR-201206003, New Milford Township, Susquehanna County, Pa.; Consumptive Use of Up to 4.999 mgd; Approval Date: June 18, 2012.

4. SWEPI, LP, Pad ID: Harer 713, ABR-201206004, Liberty Township, Tioga County, Pa.; Consumptive Use of Up to 4.000 mgd; Approval Date: June 18, 2012.

5. SWEPI, LP, Pad ID: Lovell 707, ABR-201206005, Liberty Township, Tioga County, Pa.; Consumptive Use of Up to 4.000 mgd; Approval Date: June 18, 2012.

6. Pennsylvania General Energy Company, LLC, Pad ID: COP Tract 293 Pad B, ABR-201206006, Cummings Township, Lycoming County, Pa.; Consumptive Use of Up to 3.500 mgd; Approval Date: June 18, 2012.

7. Anadarko E&P Company, LP, Pad ID: Elbow F&G Pad B, ABR-201206007, Cogan House Township, Lycoming County, Pa.; Consumptive Use of Up to 4.000 mgd; Approval Date: June 18, 2012.

8. EXCO Resources (PA), LLC, Pad ID: Elk Run Hunt Club Drilling Pad 2, ABR-201206008, Davidson Township, Sullivan County, Pa.; Consumptive Use of Up to 8.000 mgd; Approval Date: June 22, 2012.

9. SWEPI, LP, Pad ID: Guillaume 714, ABR-201206009, Liberty Township, Tioga County, Pa.; Consumptive Use of Up to 4.000 mgd; Approval Date: June 22, 2012.

10. Great Plains Operating, LLC dba Great Mountain Operating, Pad ID: SGL Tract 268-Pad B, ABR-201206010, Morris Township, Tioga County, Pa.; Consumptive Use of Up to 6.000 mgd; Approval Date: June 22, 2012.

11. Inflection Energy LLC, Pad ID: Eck, ABR-201206011, Fairfield Township, Lycoming County, Pa.; Consumptive Use of Up to 4.000 mgd; Approval Date: June 27, 2012.

12. Inflection Energy LLC, Pad ID: G. Adams, ABR-201206012, Mill Creek Township, Lycoming County, Pa.; Consumptive Use of Up to 4.000 mgd; Approval Date: June 29, 2012.

13. Inflection Energy LLC, Pad ID: Eichenlaub B Pad, ABR-201206013, Upper Fairfield Township, Lycoming County, Pa.; Consumptive Use of Up to 4.000 mgd; Approval Date: June 29, 2012.

14. Inflection Energy LLC, Pad ID: Eichenlaub A Pad, ABR-201206014, Upper Fairfield Township, Lycoming County, Pa.; Consumptive Use of Up to 4.000 mgd; Approval Date: June 29, 2012.

15. Inflection Energy LLC, Pad ID: Iffland, ABR-201206015, Upper Fairfield Township, Lycoming County, Pa.; Consumptive Use of Up to 4.000 mgd; Approval Date: June 29, 2012.

16. Southwestern Energy Production Company, Pad ID: KOZIOL PAD, ABR-201206016, New Milford Township, Susquehanna County, Pa.; Consumptive Use of Up to 4.999 mgd; Approval Date: June 29, 2012.

17. Campbell Oil & Gas, Inc., Pad ID: Mid Penn Unit B Well Pad, ABR-201206017, Bigler Township, Clearfield County, Pa.; Consumptive Use of Up to 2.000 mgd; Approval Date: June 29, 2012.

18. XTO Energy Incorporated, Pad ID: PA Tract Unit H, ABR-201206018, Chapman Township, Clinton County, Pa.; Consumptive Use of Up to 4.000 mgd; Approval Date: June 29, 2012.

Authority: Pub. L. 91-575, 84 Stat. 1509 et seq., 18 CFR parts 806, 807, and 808.

Dated: August 21, 2012.
Stephanie L. Richardson,
Secretary to the Commission.

[FR Doc. 2012-22230 Filed 9-10-12; 8:45 am]

BILLING CODE 7040-01-P